NATIONAL COUNCIL ON DISABILITY

Sunshine Act Meetings

TIME AND DATES: The Members of the National Council on Disability (NCD) will hold a quarterly meeting on Wednesday, July 18, 2018, 9:00 a.m.-4:00 p.m., Eastern Time, and Thursday, July 19, 2018, 9:00 a.m.-11:00 a.m., Eastern Time, in Washington, DC.

PLACE: This meeting will occur in Washington, DC, at the Access Board Conference Room, 1331 F Street NW, Suite 800, Washington, DC 20004. Interested parties may join the meeting in person at the meeting location or may join by phone in a listening-only capacity (other than the period allotted for public comment noted below) using the following call-in information: Teleconference number: 1-877-795-3635; Conference ID: 1068537; Conference Title: NCD Meeting; Host Name: Neil Romano.

MATTERS TO BE CONSIDERED: The Council will receive agency updates on policy projects, finance, governance, and other business. The Council Members and staff will then receive its annual ethics training in the morning. Following the training, the Council will receive a presentation on 14(c) of the Fair Labor Standards Act before lunch. Following lunch, the Council will receive a presentation on accessible exam and diagnostic equipment, followed by an update on its 14(c) employment project currently underway. The meeting will then include a time for public comment on NCD's policy priorities for the next fiscal year, before concluding with a brief period for any unfinished business.

Agenda: The times provided below are approximations for when each agenda item is anticipated to be discussed (all times Eastern):

Wednesday, July 18

9:00-9:15 a.m.—Welcome and introductions

9:15-10:15 a.m.—Annual ethics training

10:15-10:30 a.m.—Break

10:30-11:30 a.m.—14(c) Panel presentation

11:30 a.m.-1:00 p.m.—Lunch Break

1:00-2:00 p.m.—Accessible exam and diagnostic equipment presentation

2:00-2:15 p.m.—Break

2:15-3:15 p.m.—14(c)/employment—updates on project

3:15-3:45 p.m.—Public comments (focused on NCD's newest policy priorities—subminimum wage work regarding use of 14(c) within for-profit supply chains; involuntary institutionalization as a result of natural disaster; bioethics and disability; guardianship issues specific to I/DD populations; centralized accommodation funds for the Federal Government)

3:45-4:00 p.m.—Unfinished business

4:00 p.m.—Adjourn

Thursday, July 19

9:00-9:15 a.m.—Welcome and introductions

9:15-11:00 a.m.—Executive reports (scheduled votes include financial manual update; strategic plan updates; and charter school and vouchers reports)

11:00 a.m.—Adjourn

Public Comment: To better facilitate NCD's public comment, any individual interested in providing public comment is asked to register his or her intent to provide comment in advance by sending an email to PublicComment@ncd.gov with the subject line “Public Comment” with your name, organization, state, and topic of comment included in the body of your email. Full-length written public comments may also be sent to that email address. All emails to register for public comment at the quarterly meeting must be received by Tuesday, July 17, 2018. Priority will be given to those individuals who are in-person to provide their comments during the public comment period. Those commenters on the phone will be called on per the list of those registered via email. Due to time constraints, NCD asks all commenters to limit their comments to three minutes. Comments received at the May quarterly meeting will be limited to those regarding NCD's newest policy priorities—elimination of 14c; involuntary institutionalization as a result of natural disaster; bioethics and disability; guardianship issues specific to I/DD populations; centralized accommodation funds for the Federal Government.

CONTACT PERSON FOR MORE INFORMATION: Anne Sommers, NCD, 1331 F Street NW, Suite 850, Washington, DC 20004; 202-272-2004 (V), 202-272-2074 (TTY). Accommodations: A CART streamtext link has been arranged for this meeting. The web link to access CART on Wednesday, July 18, 2018 and Thursday, July 19, 2018 is: http://www.streamtext.net/player?event=NCD-QUARTERLYMEETING. Those who plan to attend the meeting in-person and require accommodations should notify NCD as soon as possible to allow time to make arrangements. To help reduce exposure to fragrances for those with multiple chemical sensitivities, NCD requests that all those attending the meeting in person refrain from wearing scented personal care products such as perfumes, hairsprays, and deodorants.

Dated: July 3, 2018.
Sharon M. Lisa Grubb,
Acting Executive Director.

[FR Doc. 2018-14688 Filed 7-3-18; 4:15 pm]

BILLING CODE 8421-03-P